DEPARTMENT OF HOUSING AND URBAN DEVELOPMENT

[Docket No. FR-5946-N-02]

Notice of Regulatory Waiver Requests Granted for the Second Quarter of Calendar Year 2016

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2016, and ending on June 30, 2016.

FOR FURTHER INFORMATION CONTACT: For general information about this notice, contact Aaron Santa Anna, Associate General Counsel for Regulations, Department of Housing and Urban Development, 451 Seventh Street SW., Room 10282, Washington, DC 20410-0500, telephone 202-708-3055 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the second quarter of calendar year 2016.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2016 through June 30, 2016. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2016) before the next report is published (the third quarter of calendar year 2016), HUD will include any additional waivers granted for the second quarter in the next report.

Accordingly, information about approved waiver requests pertaining to HUD regulations is provided in the Appendix that follows this notice.

Dated: September 2, 2016.
Tonya T. Robinson,
Principal Deputy General Counsel.

Appendix

Listing of Waivers of Regulatory Requirements Granted by Offices of the Department of Housing and Urban Development April 1, 2016 Through June 30, 2016

Note to Reader: More information about the granting of these waivers, including a copy of the waiver request and approval, may be obtained by contacting the person whose name is listed as the contact person directly after each set of regulatory waivers granted.

The regulatory waivers granted appear in the following order:

I. Regulatory Waivers Granted by the Office of Community Planning and Development

II. Regulatory Waivers Granted by the Office of Housing

III. Regulatory Waivers Granted by the Office of Public and Indian Housing

I. Regulatory Waivers Granted by the Office of Community Planning and Development

For further information about the following regulatory waivers, please see the name of the contact person that immediately follows the description of the waiver granted.

• Regulation: 24 CFR 58.22(a).

Project/Activity: The Greater Dayton Premier Management Metropolitan Housing Authority (GDPM) and the City of Kettering requested a waiver for the acquisition of 557 Corona Avenue in Kettering, Ohio. The project, funded by HOME will consist of acquisition and rehabilitation of three existing, vacant, and foreclosed buildings, providing 12 additional units of housing.

Nature of Requirement: HUD's regulation at 24 CFR 58.22(a) establishes limitations on activities pending clearance. Under the regulation, neither a recipient nor any participant in the development process, including public or private nonprofit or for-profit entities, or any of their contractors, may commit HUD assistance under a program listed in § 58.1(b) on an activity or project until HUD or the State has approved the recipient's request for relief of funds (RROF) and the related certification from the responsible entity. In addition, until the RROF and the related certification have been approved, neither a recipient nor any participant in the development process may commit non-HUD funds on or undertake an activity or project under a program listed in § 58.1(b) if the activity or project would have an adverse environmental impact or limit the choice of reasonable alternatives.

Granted By: Harriet Tregoning, Principal Assistant Secretary for Community Planning and Development.

Date Granted: April 27, 2016.

Reason Waived: The project will further the HUD mission and will advance HUD program goals to develop viable, quality communities and affordable housing; The Greater Dayton Premier Management Metropolitan Housing Authority (GDPM) and the city unknowingly violated the regulation; no HUD funds were committed; and based on the environmental assessments and the HUD field inspection, granting the waiver will not result in any unmitigated, adverse environmental impact.

Contact: Ashley Bechtold, Office of Environment and Energy, Office of Community Planning and Development, Department of Housing and Urban Development, 451 7th Street SW., Room 7212, Washington, DC 20410, telephone (202) 402-6298.

• Regulation: 24 CFR 91.105(c)(2), 24 CFR 570.201(e)(1), and 24 CFR 570.207(b)(3).

Project/Activity: Harris County, TX.

Nature of Requirement: The regulations at 24 CFR 91.105(c)(2), 24 CFR 570.201(e)(1), and 24 CFR 570.207(b)(3) require a 30-day public comment period prior to the implementation of a substantial amendment, limit the amount of Community Development Block Grant (CDBG) funds used for public services to no more than 15 percent of each grant, and prohibit CDBG funds from being used for the new construction of housing, respectively.

Granted By: Harriet Tregoning, Principal Deputy Assistant Secretary for Community Planning and Development.

Date Granted: June 28, 2016.

Reason Waived: The county was affected by severe flooding April 17-24, 2016, causing substantial property damage. A Presidential Declared Disaster Declaration (FEMA-DR-4269) was issued for multiple counties, including Harris County, on April 25, 2016, which covers severe storms and flooding that occurred for the effective period of April 17-24, 2016. The waivers granted will allow Harris County to expedite recovery efforts for low and moderate income residents affected by the flooding; pay for additional support services for affected individuals and families, including, but not limited to, food, health, employment, and case management services to help county residents impacted by the flooding; and use CDBG funds for new housing construction to replace affordable housing units lost as a result of the storms and flooding.

Contact: Steve Johnson, Director, Entitlement Communities Division, Office of Community Planning and Development, Department of Housing and Urban Development, 451 7th Street SW., Room 7282, Washington, DC 20410, telephone (202) 402-4548.

• Regulation: 24 CFR 92.251(c)-property standards; 24 CFR 92.504(d)-on-site inspections.

Project/Activity: In order to eliminate the redundant physical inspections required when a property is financed with multiple federal housing programs, HUD has been participating in a Physical Inspection Alignment Working Group. The Working Group, which includes representatives from HUD, U.S. Department of Agriculture (USDA), and Internal Revenue Service (IRS) funded programs, has developed a pilot program designed to align the physical inspection criteria and scheduling for Combined Funding Properties. There are 8 Pilot Grantees (State of Illinois, Commonwealth of Kentucky, State of Louisiana, State of Maryland, State of Minnesota, State of Missouri, State of New Mexico, State of North Carolina) and 38 Pilot Properties in the 2015 Physical Inspection Alignment Pilot Program. These Pilot Properties associated to this waiver are projects funded by the HOME Investment Partnerships (HOME) program and one or more of the Combined Funding Programs, which include the Department of Treasury's low-income housing tax credits (LIHTC), UDSA Section 515 Rural Rental Housing Program, FHA Multifamily Insurance Program, Section 811(Housing for the Disabled), Section 202 (Housing for the Elderly), Section 8 Project Based Rental Housing, and Rental Assistance Demonstration.

Nature of Requirement: The regulation at 24 CFR 92.251(c) requires that HOME-assisted rental projects must meet HUD's Housing Quality Standards throughout the period of affordability. The regulation at 24 CFR 92.504(d) requires that participating jurisdictions must perform on-site inspections of HOME-assisted rental housing in accordance with the requirements established in 24 CFR 92.504(d).

Granted By: Harriet Tregoning, Principal Deputy Assistant Secretary for Community Planning and Development.

Date Granted: April 20, 2016.

Reason Waived: The Pilot Program's goal is to eliminate redundant physical inspection requirements resulting when projects are funded by multiple federal housing programs. The lack of alignment increases program administration costs, often without a commensurate improvement in housing quality or program data collection. The elimination of multiple unnecessary inspections could lower the cost of oversight while maintaining housing quality. Waiver of the HOME property standards requirements at 24 CFR 92.251(c) and the on-site inspections requirements at 24 CFR 92.504(d) facilitates the participation of HOME grantees and HOME-funded rental projects in the 2015 Physical Inspection Alignment Pilot Program. This limited waiver applies only to Pilot Grantees for the period, January 1, 2015 through December 31, 2015, and is limited to Combined Funded Properties in the 2015 Physical Inspection Alignment Pilot Program.

Contact: Virginia Sardone, Director, Office of Affordable Housing Programs, Office of Community Planning and Development, Department of Housing and Urban Development, 451 7th Street SW., Room 7164, Washington, DC 20410, telephone (202) 708-2684.

• Regulation: 24 CFR 570.500(a).

Project/Activity: Erie County, NY.

Nature of Requirement: The CDBG regulation at 24 CFR 570.500(a) defines program income as gross income received by the recipient or a subrecipient directly generated from the use of CDBG funds.

Granted By: Nani A. Coloretti, Deputy Secretary, U.S. Department of Housing and Urban Development.

Date Granted: June 2, 2016.

Reason Waived: Erie County has a revolving loan fund that was initially capitalized with both CDBG grant funds and grant funds provided by the U.S. Department of Commerce, Economic Development Administration (EDA). Because of complex and conflicting Federal program requirements, the County found it difficult to comply with program requirements of both HUD and EDA. As a result, the fund became inactive. Both HUD and EDA recognized a long dormant fund does not benefit the community. Both agencies provided the County with technical assistance to separate the grant funds from the revolving loan fund, and make better use of these resources in accordance with each agency's program requirements. Decades of commingled funds and conflicting regulations made it impossible to calculate program income attributable to the use of CDBG funds during the revolving loan fund's active years. The waiver was granted to the extent necessary to allow Erie County to calculate CDBG program income based on its CDBG share of the entire revolving loan fund at the time of initial funding. This allowed the County to separate CDBG grant funds and CDBG program income from the revolving loan fund, and use these funds to carry out CDBG eligible activities for the benefit of the community. This also allowed the County to benefit from the use of EDA funds that may now be used to provide new economic development loans in accordance with EDA program requirements.

Contact: Steve Johnson, Director, Entitlement Communities Division, Office of Community Planning and Development, Department of Housing and Urban Development, 451 7th Street SW., Room 7282, Washington, DC 20410, telephone (202) 402-4548.

• Regulation: 24 CFR 576.106(d).

Project/Activity: Community Action of Napa Valley/Rental Assistance, Napa, California.

Nature of Requirement: Provisions at 24 CFR 576.106(d)(1), limit rental assistance to equal to or less than the HUD-established FMR, as provided under 24 CFR part 888, and in compliance with the HUD-established rent reasonableness standard at 24 CFR 982.507. These requirements are intended to ensure that program participants can remain in their housing after their Emergency Solutions Grant (ESG) assistance ends and help ensure that the amount of ESG assistance provided for rental assistance is reasonable, while serving the greatest number of program participants possible.

Granted By: Harriet Tregoning, Principal Deputy Assistant Secretary for Community Planning and Development.

Date Granted: June 22, 2016.

Reason Waived: Community Action of Napa Valley (CANV) has demonstrated its inability to provide adequate rental assistance using the ESG program with the rising cost of rental units in Napa County and the decrease of Napa's Fair Market Rent (FMR) for a two-bedroom unit. The success rate for housing vouchers has fallen from 76 to 67 percent over the past year, while Napa reports an estimated 5- to 6-year wait for those on the Section 8 wait list, which is now closed. Local real estate agents report that there are up to 30 applications for every vacant unit and the unit vacancy rate is low. This waiver allows CANV to provide ESG rental assistance for two-, three-, and four-bedroom units up to 105 percent of the FMR.

Contact: Michael Roanhouse, Director, Program Coordination & Analysis Division, Office of Special Needs Assistance Programs, Office of Community Planning and Development, Department of Housing and Urban Development, 451 7th Street SW., Room 7262, Washington, DC 20410, telephone (202) 402-4482.

II. Regulatory Waivers Granted by the Office of Housing—Federal Housing Administration (FHA)

For further information about the following regulatory waivers, please see the name of the contact person that immediately follows the description of the waiver granted.

• Regulation: 24 CFR 219.220(b).

Project/Activity: Sun Tower, FHA Project Number 127-SH015, Yakima, Washington. Yakima First Baptist Homes, Incorporated (Owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted By: Edward L. Golding, Principal Deputy Assistant Secretary for Housing.

Date Granted: April 22, 2016.

Reason Waived: The owner requested and was granted a waiver of the requirement to repay the Flexible Subsidy Operating Assistance Loan in full when it became due. Deferring the loan payment preserves this affordable housing resource for an additional 40 years through the execution and recordation of a Rental Use Agreement.

Contact: Regina Aleksiewicz, Senior Account Executive, Office of Housing, Department of Housing and Urban Development, 451 7th Street SW., 6152, Washington, DC 20410, telephone (202) 402-2600.

• Regulation: 24 CFR 219.220(b) (1995).

Project/Activity: Clairmont Oaks, FHA Project Number 061-44-027T, Decatur, Georgia. The owner requested a partial deferral of repayment of the Flexible Subsidy Operating Assistance Loan on this project due to their inability to repay the loan in full upon prepayment of the 236 Loan.

Nature of Requirement: Section 219.220(b) (1995) governs the repayment of operating assistance provided under the Flexible Subsidy Program for Troubled Projects states “Assistance that has been paid to a project owner under this subpart must be repaid at the earlier of expiration of the term of the mortgage, termination of mortgage insurance, prepayment of the mortgage, or a sale of the project (Transfer of Physical Assets (TPA)) if the Secretary so requires at the time of approval of the TPA.” Either of these actions would typically terminate FHA involvement with the property, and the Flexible Subsidy Loan would be repaid, in whole, at that time.

Granted By: Edward Golding, Principal Deputy Assistant Secretary for Housing.

Date Granted: June 15, 2016.

Reason Waived: The owner requested and was granted waiver of the requirement to partially defer repayment of the Flexible Subsidy Operating Assistance Loan to allow the much needed preservation and moderate rehabilitation of the project. The project will be preserved as an affordable housing resource of Decatur, Georgia.

Contact: John Ardovini, Restructuring Analyst, Office of Affordable Housing Preservation, Office of Housing, Department of Housing and Urban Development, 451 7th Street SW., Room 6222, Washington, DC 20410, telephone (202) 402-3001.

• Regulation: 24 CFR 219.220(b).

Project/Activity: Pine Grove Apartments, FHA Project Number 023-027NI, Taunton, Massachusetts. Two K Associates, Ltd. Partnership, MA (Owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted By: Edward L. Golding, Principal Deputy Assistant Secretary for Housing.

Date Granted: June 16, 2016.

Reason Waived: The owner requested and was granted a waiver of the requirement to repay the Flexible Subsidy Operating Assistance Loan in full when it became due. Deferring the loan payment will preserve this affordable housing resource for an additional 40 years through the execution and recordation of a Rental Use Agreement.

Contact: Marilynne Hutchins, Senior Account Executive, Office of Housing, Department of Housing and Urban Development, 451 7th Street SW., Room 6174, Washington, DC 20410, telephone (202) 402-4323.

• Regulation: 24 CFR 242.72.

Project/Activity: Effingham County Hospital Authority (Effingham), FHA Project Number 061-13004, Springfield, Georgia. Effingham proposed a restructuring where the Owner is to lease the hospital facility to a separate operator, Effingham Hospital, Inc. (EHI).

Nature of Requirement: The regulation prohibits the leasing of a hospital in its entirety.

Granted By: Edward L. Golding, Principal Deputy Assistant Secretary for Housing.

Date Granted: June 1, 2016.

Reason Waived: The restructuring took place to comply with Georgia Hospital Authorities Law. The restructuring will permit Effingham to expand both geographically and programmatically to respond to challenges and changes in the healthcare delivery system without loss of any revenue sources that support the organization.

Contact: Shelley M. McCracken-Rania, Senior Financial Analyst, Office of Housing, Department of Housing and Urban Development, 451 7th Street SW., Room 2247, Washington, DC 20410, telephone (202) 402-5366.

• Regulation: 24 CFR 242.72.

Project/Activity: Toombs County Hospital Authority (TCHA), FHA Project Number 061-13002, Vidalia, Georgia. As part of a Section 223(a)(7) application to refinance existing FHA-insured debt for Meadows Regional Medical Center (MRMC), the organization will restructure so that TCHA is the new Borrower and Owner. TCHA will lease the hospital facility to MRMC to operate.

Nature of Requirement: The regulation prohibits the leasing of a hospital in its entirety.

Granted By: Edward L. Golding, Principal Deputy Assistant Secretary for Housing.

Date Granted: June 1, 2016.

Reason Waived: The restructuring was needed to approve the proposed refinancing. The refinancing lowered the interest rate on the FHA-insured debt from 7.39% to below 4%.

Contact: Shelley M. McCracken-Rania, Senior Financial Analyst, Office of Housing, 451 7th Street SW., Room 2247, Washington, DC 20410, telephone (202) 402-5366.

• Regulation: 24 CFR 290.30(a).

Project/Activity: Howard Avenue Rehabilitation, FHA Project Number 012-57083 V and W, Brooklyn, New York. Howard Avenue Associates, L.P. (Owner) seeks approval to waive the non-competitive sale of two HUD-held multifamily mortgages.

Nature of Requirement: The regulation at 24 CFR 290.30(a), which governs the sale of HUD-held mortgages, states that “[e]xcept as otherwise provided in Section 290.31(a)(2), HUD will sell HUD-held multifamily mortgages on a competitive basis.”

Granted By: Edward L. Golding, Principal Deputy Assistant Secretary for Housing.

Date Granted: April 4, 2016.

Reason Waived: The owner requested and was granted a waiver of the non-competitive sale of two HUD-held multifamily mortgages. The waiver allows HUD to assign the mortgages to the Owner's new mortgagee to avoid paying mortgage recording tax in the State of New York.

Contact: Cindy Bridges, Senior Account Executive, Office of Housing, Department of Housing and Urban Development, 451 7th Street SW., Room 6168, Washington, DC 20410, telephone (202) 402-2603.

• Regulation: 24 CFR 290.30(a).

Project/Activity: 1018 East 163rd Street, FHA Project Number 012-57360 W, Bronx, New York. 1018 Development Company (Owner) seeks approval to waive the non-competitive sale of a HUD-held multifamily mortgage.

Nature of Requirement: The regulation at 24 CFR 290.30(a), which governs the sale of HUD-held mortgages, states that “[e]xcept as otherwise provided in Section 290.31(a)(2), HUD will sell HUD-held multifamily mortgages on a competitive basis.”

Granted By: Edward L. Golding, Principal Deputy Assistant Secretary for Housing.

Date Granted: June 13, 2016.

Reason Waived: The owner requested and was granted a waiver of the non-competitive sale of a HUD-held multifamily mortgage. A waiver allows the Department to assign the mortgage to the Owner's new mortgagee to avoid paying mortgage recording tax in the State of New York.

Contact: Susanna Oyewole, Account Executive, Office of Housing, Department of Housing and Urban Development, 451 7th Street SW., Room 6080, Washington, DC 20410, telephone (202) 402-6080.

• Regulation: 24 CFR 891.165.

Project/Activity: Andres Duarte Terrace II, Duarte, CA, Project Number: 122-EE216/CA16-S101-002.

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: June 1, 2016.

Reason Waived: Additional time was needed for the approval of the subordination agreement by the City of Duarte Housing Authority, and amendment of the Owner's limited partnership agreement.

Contact: Alicia Anderson, Branch Chief, Grants and New Funding, Office of Housing, Department of Housing and Urban Development, 451 7th Street SW., Room 6138, Washington, DC 20410, telephone (202) 402-5787.

• Regulation: 24 CFR 891.165.

Project/Activity: Middletown Homes 2009, Middletown, NJ, Project Number: 031-HD168/NJ39-Q101-003.

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: June 15, 2016.

Reason Waived: Additional time was needed for the office to review the initial closing package.

Contact: Alicia Anderson, Branch Chief, Grants and New Funding, Office of Housing, Department of Housing and Urban Development, 451 7th Street SW., Room 6138, Washington, DC 20410, telephone (202) 402-5787.

• Regulation: 24 CFR 891.165.

Project/Activity: Westminster Place Supported Independent Living, Philadelphia, PA, Project Number: 034-HD115/PA26-Q101-002.

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: June 15, 2016.

Reason Waived: Additional time was needed to review the closing documents and to allow for unforeseen delays.

Contact: Alicia Anderson, Branch Chief, Grants and New Funding, Office of Housing, Department of Housing and Urban Development, 451 7th Street SW., Room 6138, Washington, DC 20410, telephone (202) 402-5787.

III. Regulatory Waivers Granted by the Office of Public and Indian Housing

For further information about the following regulatory waivers, please see the name of the contact person that immediately follows the description of the waiver granted.

• Regulation: 24 CFR 5.801(c)(1) and 24 CFR 5.801(d)(1).

Project/Activity: Gateway Healthcare, Inc. (RI029).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Lourdes Castro Ramírez, Principal Deputy Assistant Secretary for Public and Indian Housing.

Date Granted: May 6, 2016.

Reason Waived: Gateway Healthcare, Inc. (HA), a Section 8 only entity, and its Mainstream Voucher Program are an affiliate partner of the Lifespan Corporation (Lifespan). Lifespan has a FYE date of September 30, 2016. The HA requested an extension to submit its audited financial data for the fiscal year end (FYE) of June 30, 2015, to align with its affiliate partner Lifespan's FYE date of September 30, 2016. The additional time allowed the auditor necessary time to compile and complete Gateway Healthcare's required audited financial data submission to the Department. This Financial Assessment Sub System (FASS) audited financial submission waiver (extension) does not apply to Single Audit submissions to the Federal Audit Clearinghouse; the HA is required to meet the Single Audit due dates.

Contact: Dee Ann R. Walker, Acting Program Manager, NASS, Real Estate Assessment Center, Office of Public and Indian Housing, Department of Housing and Urban Development, 550 12th Street SW., Suite 100, Washington, DC 20410, telephone (202) 475-7908.

• Regulation: 24 CFR 5.216(h)(1).

Project/Activity: Vancouver Housing Authority in Vancouver, Washington, requested a waiver of 24 CFR 5.216(h)(1) so that it could admit homeless applicants prior to verifying Social Security Numbers (SSN).

Nature of Requirement: This regulation states that if the processing entity determines that the assistance applicant is otherwise eligible to participate in a program, the assistance applicant may retain its place on the waiting list for the program but cannot become a participant until it can provide a complete and accurate social security number (SSN) assigned to each member of the household.

Granted By: Lourdes Castro Ramírez, Principal Deputy Assistant Secretary for Public and Indian Housing.

Date Granted: April 21, 2016.

Reason Waived: This regulation was waived as a reasonable accommodation to allow homeless families to provide SSN documentation to the processing entity within 90 calendar days from the date of admission to the program which is allowed for the Section 8 Moderate Rehabilitation Single Room Occupancy program for homeless individuals.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Des Moines Municipal Housing Agency in Des Moines, Iowa, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the fair market rent (FMR) for the unit size.

Granted By: Lourdes Castro Ramírez, Principal Deputy Assistant Secretary for Public and Indian Housing.

Date Granted: April 8, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202)708-0477.

• Regulation: 24 CFR 982.505(d).

Project/Activity: Marion County Housing Authority in Salem, Oregon, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: April 8, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: San Diego Housing Commission in San Diego, California, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: April 8, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: San Diego Housing Commission in San Diego, California, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: April 8, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202)708-0477.

• Regulation: 24 CFR 982.505(d).

Project/Activity: Boston Housing Authority in Boston, Massachusetts, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: April 12, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Sonoma County Housing Authority in Santa Rosa, California, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: April 18, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Howard County Housing in Columbia, Maryland, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: April 22, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Housing Authority of the City of Glendale in Glendale, California, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the fair market rent (FMR) for the unit size.

Granted By: Lourdes Castro Ramírez, Principal Deputy Assistant Secretary for Public and Indian Housing.

Date Granted: May 9, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Housing Authority of the County of Santa Cruz in Santa Cruz, California, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: May 17, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Lake County Housing Commission in Lower Lake, California, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: June 3, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Howard County Housing in Columbia, Maryland, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: June 7, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Colorado Department of Local Affairs in Denver, Colorado, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: June 13, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: County of Maui in Wailuku, Hawaii, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: June 13, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Boston Housing Authority in Boston, Massachusetts, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: June 14, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Kaua'I County Housing Authority in Lihu'e, Hawaii, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: June 14, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Waltham Housing Authority in Waltham, Massachusetts, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: June 15, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Housing Authority of Clackamas County in Oregon City, Oregon, requested a waiver of 24 CFR 982.505(d) so that it could approve an exception payment standard amount above 120 percent of the fair market rent (FMR) as a reasonable accommodation.

Nature of Requirement: Section 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: June 21, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 984.305(c)(1).

Project/Activity: The Housing Authority of Chelan County and City of Wenatchee in Wenatchee, Washington, requested a waiver of 24 CFR 984.305(c)(1) so that it could disburse escrow funds accumulated by a participant in the Family Self-Sufficiency (FSS) program. The FSS family was unable to complete its contract of participation due to being absorbed into the HCV program of a PHA that did not administer an FSS program.

Nature of Requirement: This regulation states the FSS escrow shall be paid to the participant when the contract of participation has been completed and at the time of contract completion the head of the FSS family submits to the PHA a certification that to the best of his or her knowledge and belief, no member of the FSS family is a recipient of welfare assistance.

Granted By: Lourdes Castro Ramírez, Principal Deputy Assistant Secretary for Public and Indian Housing.

Date Granted: June 29, 2016.

Reason Waived: Although the FSS participant in question was unable to complete its contract of participation prior to being absorbed into the HCV program of the receiving PHA, the family was in compliance with the contract of participation and the move to the receiving PHA's jurisdiction was for good cause. In consideration of these circumstances, the waiver was granted so that escrow could be disbursed to the family without completing the contract of participation.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Loveland Housing Authority (LHA) in Loveland, Colorado, requested a waiver of 24 CFR 985.101(a) so that it could submit its Section Eight Management Assessment Program (SEMAP) certification after the deadline.

Nature of Requirement: Section 985.101(a) states a PHA must submit the HUD-required SEMAP certification form within 60 calendar days after the end of its fiscal year.

Granted By: Lourdes Castro Ramírez, Principal Deputy Assistant Secretary for Public and Indian Housing.

Date Granted: May 13, 2016.

Reason Waived: This waiver was granted for the LHA's fiscal year ending December 31, 2015. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Winter Haven Housing Authority (WHHA) in Winter Haven, Florida, requested a waiver of 24 CFR 985.101(a) so that it could submit its Section Eight Management Assessment Program (SEMAP) certification after the deadline.

Nature of Requirement: Section 985.101(a) states a PHA must submit the HUD-required SEMAP certification form within 60 calendar days after the end of its fiscal year.

Granted By: Lourdes Castro Ramírez, Principal Deputy Assistant Secretary for Public and Indian Housing.

Date Granted: April 8, 2016.

Reason Waived: This waiver was granted because for the WHHA's fiscal year ending September 30, 2015. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 7th Street SW., Room 4216, Washington, DC 20410, telephone (202) 708-0477.

[FR Doc. 2016-21867 Filed 9-9-16; 8:45 am]

BILLING CODE 4210-67-P